DEPARTMENT OF THE INTERIOR

Fish and Wildlife Service

[FWS-R5-R-2014-N199; BAC-4311-K9-S3]

Great Swamp National Wildlife Refuge, Morris County, New Jersey; Final Comprehensive Conservation Plan and Finding of No Significant Impact

AGENCY: Fish and Wildlife Service, Interior.

ACTION: Notice of availability.

SUMMARY: We, the U.S. Fish and Wildlife Service (Service), announce the availability of the final comprehensive conservation plan (CCP) and finding of no significant impact (FONSI) for Great Swamp National Wildlife Refuge (NWR), located in Morris County, New Jersey, for public review and comment. In this final CCP, we describe how we will manage the refuge for the next 15 years.

ADDRESSES: You may view or obtain copies of the final CCP and FONSI by any of the following methods. You may request a hard copy or a CD-ROM.

Agency Web site: Download a copy of the document at http://www.fws.gov/refuge/Great_Swamp/what_we_do/conservation.html.

Email: Send requests to northeastplanning@fws.gov. Include “Great Swamp CCP” in the subject line of your email.

Mail: Bill Perry, Natural Resource Planner, U.S. Fish and Wildlife Service, 300 Westgate Center Drive, Hadley, MA 01035.

Fax: Attention: Bill Perry, 413-253-8468.

In-Person Viewing or Pickup: Call 973-425-1222 to make an appointment (necessary for view/pickup only) during regular business hours at Great Swamp NWR, 241 Pleasant Plains Road, Basking Ridge, NJ 07920. For more information on locations for viewing or obtaining documents, see “Public Availability of Documents” under SUPPLEMENTARY INFORMATION.

FOR FURTHER INFORMATION CONTACT: Steven Henry, Acting Refuge Manager, 973-425-1222 (phone), or Bill Perry, Planning Team Leader, 413-253-8688 (phone); northeastplanning@fws.gov (email).

SUPPLEMENTARY INFORMATION:

Introduction

With this notice, we finalize the CCP process for Great Swamp NWR. We started this process through a notice in the Federal Register (75 FR 41879) on July 19, 2010.

Great Swamp NWR was established by an act of Congress on November 3, 1960, and formally dedicated in 1964, primarily under the authorities of the Migratory Bird Treaty Act of 1918 (16 U.S.C. 703-711) and the Migratory Bird Conservation Act of 1929 (U.S.C. 715-715s, 45 Stat. 1222) as amended, “for use as an inviolate sanctuary, or for any other management purpose, for migratory birds.” The refuge currently encompasses 7,768 acres and has an approved acquisition boundary that would allow for refuge expansion to a maximum of 9,429 acres. Great Swamp NWR is located approximately 26 miles from New York City and is an area that is heavily suburbanized. The refuge provides vital brooding, nesting, feeding, and resting habitat for a variety of migratory bird species, including waterfowl. Although established primarily for migratory birds, the refuge's mosaic of forested wetlands, emergent wetlands, and various successional stages of upland vegetation provides habitats for a diversity of wildlife species.

We announce our decision and the availability of the FONSI for the final CCP for Great Swamp NWR in accordance with National Environmental Policy Act (NEPA) (42 U.S.C. 4321 et seq.) requirements. We completed a thorough analysis of impacts on the human environment, which we included in the draft CCP/environmental assessment (EA).

The CCP will guide us in managing and administering Great Swamp NWR for the next 15 years. Alternative B, as described for the refuge in the draft CCP/EA, and with minor modifications described below, is the foundation for the final CCP.

Background

The National Wildlife Refuge System Administration Act of 1966 (16 U.S.C. 668dd-668ee) (Refuge Administration Act), as amended by the National Wildlife Refuge System Improvement Act of 1997, requires us to develop a CCP for each refuge. The purpose for developing a CCP is to provide refuge managers with a 15-year plan for achieving refuge purposes and contributing to the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

CCP Alternatives, Including the Selected Alternative

Our draft CCP/EA (79 FR 27634) addressed several key issues, including:

• Evaluation of consolidating managed habitats of the refuge.

• Better understanding the implications and trade-offs of habitat management on refuge wildlife.

• Identifying and addressing climate change concerns impacting the refuge.

• Providing more public use opportunities on the refuge and linking to nearby urban populations.

• Providing additional hunting opportunities, including fall archery deer hunting and spring turkey hunting.

• Expanding and strengthening partnerships.

To address these issues and develop a plan based on the refuge's establishing purposes, vision, and goals, we evaluated four management alternatives for Great Swamp NWR in the draft CCP/EA. The alternatives have several actions in common. All alternatives include measures to control invasive species, monitor and abate diseases affecting wildlife and plant health, protect cultural resources, continue existing projects managed by outside programs, and manage threatened and endangered species populations on the refuge. There are other actions that differ among the alternatives. The draft CCP/EA provides a full description of each alternative and relates each to the issues and concerns that arose during the planning process. Below, we provide summaries of the four alternatives.

Management Alternatives

Alternative A (Current Management)

Alternative A (current management) satisfies the NEPA (40 CFR 1506.6(b)) requirement of a “no action” alternative, which we define as “continuing current management.” It describes our existing management priorities and activities, and serves as a baseline for comparing and contrasting alternatives B, C, and D. It would maintain our present levels of approved refuge staffing and the biological and visitor programs now in place. We would continue to manage for and maintain a diversity of habitats, including freshwater wetlands, impoundments, scrub-shrub, grasslands, wet meadows, and forests on the refuge. The refuge would continue to provide an active visitor use program that supports environmental education and interpretation, hunting, fishing, and wildlife observation and photography.

Alternative B (Enhance Biological Diversity and Public Use Opportunities)

This alternative is the Service-preferred alternative. It combines the actions we believe would most effectively achieve the refuge's purposes, vision, and goals, and respond to the issues raised during the scoping period. This alternative emphasizes management of specific refuge habitats to support viable populations of focal species whose habitat needs benefit other species, especially those of conservation concern. We would continue to maintain a diversity of forest, non-forested, open water, grassland, and scrub-shrub habitats. However, habitats would be reconfigured and maintained to create large (greater than 50 acres) contiguous patches to promote wildlife use, increase connectivity, decrease fragmentation, and increase maintenance efficiency and reduce associated costs. This alternative emphasizes habitat for priority bird species and federally listed species, including the bog turtle and Indiana bat.

This alternative would also enhance the refuge's public use opportunities, and place more emphasis on connecting with communities in nearby urban areas. It would expand the hunt program by pursuing the processes for permitting archery for deer and opening the refuge to turkey hunting. It would also improve wildlife viewing and photography opportunities in a variety of habitats, expand visitor center hours, and increase the number of environmental education and interpretation programs on- and off-refuge. It attempts to balance public use with resource protection.

Alternative C (Emphasis on Maximizing Natural Regeneration)

Alternative C emphasizes allowing natural succession or regeneration to occur to the maximum extent practical. We would maximize core forest habitats while maintaining large (i.e., greater than 50 acres) contiguous patches of actively managed grasslands and scrub-shrub habitats. This alternative would guide management to restore, where practical, the distribution of natural communities of the Great Swamp that would have resulted from natural processes without the influence of human settlement or management intervention. This alternative recognizes that refuge habitats and wildlife populations are not ecologically independent from the surrounding landscape, and that by taking a long-term regional perspective, the refuge can best contribute to higher conservation priorities at greater scales. This alternative continues to provide actively managed habitats in select areas to maintain wildlife viewing and photography opportunities for refuge visitors, as well as vital habitat for the refuge's species of conservation concern. Although some open water habitat would be eliminated, the refuge would continue to maintain open water habitat for waterfowl use. Under this alternative, the public use program would be similar to alternative A; however, under this alternative, we would eliminate less used or dead-end trails in the wilderness area.

Alternative D (Focus on Expansion of Priority Public Uses)

Alternative D emphasizes expanding wildlife-dependent priority public uses on the refuge. Public use and access would be maximized to the greatest extent practical, while minimizing impacts to wildlife. We would expand refuge infrastructure, including construction of new trails, observation towers, signage, and parking lots; expand hunting; and allow fishing in select areas of the refuge. This alternative would maximize public outreach, enhance and develop new environmental interpretation and education programs, aggressively expand partnerships, and increase staff presence at programs and events. In general, refuge habitats would be managed similarly to alternative B; however, this alternative would increase open water habitat to improve public viewing opportunities.

Comments

We solicited comments on the draft CCP/EA from May 14 to June 30, 2014 (79 FR 27634). During the comment period, we received 80 written responses. We evaluated all of the substantive comments we received, and include a summary of those comments, and our responses to them, as appendix G in the final CCP.

Selected Alternative

After considering the comments we received on our draft CCP/EA, we made minor changes to alternative B, including not moving forward on the proposed parking area and wildlife observation opportunity on White Bridge Road, and correcting minor editorial, formatting, and typographical errors. These changes are described in the FONSI (appendix E in the final CCP) and in our response to public comments (appendix G in the final CCP).

We have selected alternative B to implement for Great Swamp NWR, with these minor changes, for several reasons. Alternative B comprises a mix of actions that, in our professional judgment, work best towards achieving the refuge's purposes, vision, and goals, NWRS policies, and the goals of other State and Regional conservation plans. We also believe that alternative B most effectively addresses key issues raised during the planning process. The basis of our decision is detailed in the FONSI (appendix E in the final CCP).

Public Availability of Documents

You can view or obtain the final CCP, including the FONSI, as indicated under ADDRESSES.

Dated: October 6, 2014.
Deborah Rocque,
Acting Regional Director, Northeast Region.

[FR Doc. 2014-27590 Filed 11-20-14; 8:45 a.m.]

BILLING CODE 4310-55-P